DEPARTMENT OF COMMERCE

National Oceanic and Atmospheric Administration

[I.D. 042902C]

Marine Mammals; File No. 984-1587

AGENCY: National Marine Fisheries Service (NMFS), National Oceanic and Atmospheric Administration (NOAA), Commerce.

ACTION: Receipt of application for amendment.

SUMMARY: Notice is hereby given that Dr. Terrie Williams, Long Marine Lab, Institute of Marine Sciences, University of California at Santa Cruz, 100 Shaffer Road, Santa Cruz, CA 95060, has requested an amendment to scientific research Permit No. 984-1587-00.

DATES: Written or telefaxed comments must be received on or before June 6, 2002.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Amy Sloan or Ruth Johnson, (301)713-2289.

SUPPLEMENTARY INFORMATION: The subject amendment to Permit No. 984-1587-00, issued on October 31, 2000 (65 FR 66718), is requested under the authority of the Marine Mammal Protection Act of 1972, as amended (16 U.S.C. 1361 et seq.), and the Regulations Governing the Taking and Importing of Marine Mammals (50 CFR part 216).

Permit No. 984-1587-00 authorizes the permit holder to examine the physiological responses of two adult male dolphins (Tursiops truncatus) and three adult female California sea lions (Zalophus californianus) during swimming and diving. Testing involves measuring locomotor, thermal, and maintenance costs using voluntary behaviors through training at Long Marine Laboratory.

The permit holder requests authorization to: (1) extend the holding and research on the California sea lions at Long Marine Laboratory from the expiration date of September 30, 2002, to June 30, 2004; (2) obtain an adult male California sea lion on temporary breeding loan from Oceans of Fun (Milwaukee, WI) to mate with the three female sea lions; and (3) conduct the same research on the three female sea lions while pregnant. All procedures are performed voluntarily by the sea lions. Types of take include mating; blood, milk, saliva, fecal, and urine sampling; open flow respirometry, swimming and walking, and voluntary breath holding. The purpose of this research is to test the hypothesis that physiological adaptations for the marine environment result in elevated energetic costs in otariids compared to terrestrial mammals, which will be tested by measuring locomotor, thermal, maintenance, and reproductive costs in sea lions.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 2, 2002.
Eugene T. Nitta,
Acting Chief, Permits, Conservation and Education Division, Office of Protected Resources, National Marine Fisheries Service.

[FR Doc. 02-11303 Filed 5-6-02; 8:45 am]

BILLING CODE 3510-22-S